DEPARTMENT OF TRANSPORTATION

Federal Aviation Administration

14 CFR Part 39

[Docket No. FAA-2007-27715; Directorate Identifier 2006-NM-140-AD]

RIN 2120-AA64

Airworthiness Directives; Airbus Model A330 and A340 Airplanes

AGENCY: Federal Aviation Administration (FAA), Department of Transportation (DOT).

ACTION: Notice of proposed rulemaking (NPRM).

SUMMARY: The FAA proposes to supersede an existing airworthiness directive (AD) that applies to all Airbus Model A330-200, A330-300, A340-200, and A340-300 series airplanes; and Model A340-541 and A340-642 airplanes. The existing AD currently requires operators to revise the Airworthiness Limitations section (ALS) of the Instructions for Continued Airworthiness (ICA) to incorporate new information. This information includes, for all affected airplanes, decreased life limit values for certain components; and for Model A330-200 and -300 series airplanes, new inspections, compliance times, and new repetitive intervals to detect fatigue cracking, accidental damage, or corrosion in certain structures. This proposed AD would revise the ALS, for all affected airplanes, by adding new Airworthiness Limitations Items (ALIs) to incorporate service life limits for certain items and inspections to detect fatigue cracking, accidental damage or corrosion in certain structures, in accordance with the revised ALS of the ICA. This proposed AD results from the issuance of new and more restrictive service life limits and structural inspections based on fatigue testing and in-service findings. We are proposing this AD to detect and correct fatigue cracking, accidental damage, or corrosion in principal structural elements, and to prevent failure of certain life-limited parts, which could result in reduced structural integrity of the airplane.

DATES: We must receive comments on this proposed AD by April 27, 2007.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility; U.S. Department of Transportation, 400 Seventh Street, SW., Nassif Building, Room PL-401, Washington, DC 20590.

• Fax: (202) 493-2251.

• Hand Delivery: Room PL-401 on the plaza level of the Nassif Building, 400 Seventh Street, SW., Washington, DC, between 9 a.m. and 5 p.m., Monday through Friday, except Federal holidays.

Contact Airbus, 1 Rond Point Maurice Bellonte, 31707 Blagnac Cedex, France, for service information identified in this proposed AD.

FOR FURTHER INFORMATION CONTACT: Tim Backman, Aerospace Engineer International Branch, ANM-116, FAA, International Branch, Transport Airplane Directorate, 1601 Lind Avenue, SW., Renton, Washington 98055-4056; telephone (425) 227-2797; fax (425) 227-1149.

SUPPLEMENTARY INFORMATION:

Comments Invited

We invite you to submit any relevant written data, views, or arguments regarding this proposed AD. Send your comments to an address listed in the ADDRESSES section. Include the docket number “Docket No. FAA-2007-27715; Directorate Identifier 2006-NM-140-AD” at the beginning of your comments. We specifically invite comments on the overall regulatory, economic, environmental, and energy aspects of the proposed AD. We will consider all comments received by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You may review the DOT's complete Privacy Act Statement in the Federal Register published on April 11, 2000 (65 FR 19477-78), or you may visit http://dms.dot.gov.

Examining the Docket

You may examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the Docket Management System receives them.

Discussion

On April 20, 2006, we issued AD 2006-09-07, amendment 39-14577 (71 FR 25919, May 3, 2006), for all Airbus Model A330-200, A330-300, A340-200, and A340-300 series airplanes; and Model A340-541 and A340-642 airplanes. That AD requires operators to revise the Airworthiness Limitations section (ALS) of the Instructions for Continued Airworthiness to incorporate new information. This information includes, for all affected airplanes, decreased life limit values for certain components; and for Model A330-200 and -300 series airplanes, new inspections, compliance times, and new repetitive intervals to detect fatigue cracking, accidental damage, or corrosion in certain structures. That AD resulted from a revision to subsection 9-1 of the Airbus A330 and A340 Maintenance Planning Documents (MPD) for Life limits/Monitored parts, and subsection 9-2 of the Airbus A330 MPD for Airworthiness Limitations Items (ALIs). We issued that AD to detect and correct fatigue cracking, damage, or corrosion, which could result in reduced structural integrity of these airplanes.

Actions Since Existing AD Was Issued

Since we issued AD 2006-09-07, the European Aviation Safety Agency (EASA), which is the Technical Agent for the Member States of the European Community, notified us that an unsafe condition may exist on all Airbus Model A330-200, A330-300, A340-200, and A340-300 series airplanes; and Model A340-541 and A340-642 airplanes. The EASA advises that Airbus has issued new service life limits and structural inspections based upon fatigue testing and in-service findings. Fatigue cracking, accidental damage, or corrosion in principal structural elements and failure of certain life limited parts, if not corrected, could result in reduced structural integrity of the airplane.

The EASA also advises that Airbus has moved the service life limits from the A330/A340 MPDs into the applicable ALS Part 1. Airbus has also revised Document AI/SE-M4/95A.0089/97, “A330 Airworthiness Limitations Items (ALIs),” Issue 12, dated November 1, 2003, to Issue 14, dated October 10, 2005. The revision to the ALIs adds new tasks to those specified in Issue 12; therefore, the revision has been added to the new requirements in this AD. In addition, a new revision to the A340 ALS adds Airbus Document AI/SE-M4/95A.0051/97, “A340 Airworthiness Limitations Items,” Issue 9, dated January 17, 2006.

Incorporating these revisions into the ALS of the Instructions for Continued Airworthiness is intended to ensure the continued structural integrity of these airplanes.

Relevant Service Information

Airbus has issued A330 and A340 ALS Part 1—Safe Life Airworthiness Limitation Items, dated March 23, 2006, Sub-part 1-2 , “Life Limits,” and Sub-part 1-3, “Demonstrated Fatigue Lives,” of both ALS Part 1 documents to specify new and more restrictive service life limits for certain ALIs.

Airbus has also issued A330 and A340 ALS Part 2, Damage Tolerant Airworthiness Limitation Items, dated January 17, 2006. The ALS Part 2 document refers to Airbus Document AI/SE-M4/95A.0089/97, “A330 Airworthiness Limitations Items,” Issue 14, dated October 10, 2005; and Airbus Document AI/SE-M4/95A.0051/97, “A340 Airworthiness Limitations Items,” Issue 9, dated January 17, 2006 (both approved by the EASA on February 25, 2006). Part 2 references the ALI documents for damage tolerance inspections but does not contain them. The documents specify new and more restrictive inspections for structural items.

Accomplishment of the actions specified in these documents is intended to adequately address the unsafe condition. The EASA mandated these documents and issued EASA airworthiness directives 2006-0129 and 2006-0130, both dated May 22, 2006; and 2006-0307 and 2006-0308, both dated October 10, 2006; to ensure the continued airworthiness of these airplanes in the European Union.

Explanation of Change to Applicability

We have revised the applicability of the proposed AD to identify model designations as published in the EASA airworthiness directive for the affected models.

FAA's Determination and Requirements of the Proposed AD

These airplane models are manufactured in France and are type certificated for operation in the United States under the provisions of section 21.29 of the Federal Aviation Regulations (14 CFR 21.29) and the applicable bilateral airworthiness agreement. As described in FAA Order 8100.14A, “Interim Procedures for Working with the European Community on Airworthiness Certification and Continued Airworthiness,” dated August 12, 2005, the EASA has kept the FAA informed of the situation described above. We have examined the EASA's findings, evaluated all pertinent information, and determined that AD action is necessary for airplanes of this type design that are certificated for operation in the United States.

This proposed AD would supersede AD 2006-09-07 and would retain the requirements of the existing AD. This proposed AD would also require revising the ALS, for all affected airplanes, by adding new ALIs to incorporate service life limits for certain items and inspections to detect fatigue cracking, accidental damage or corrosion in certain structures, in accordance with the revised ALS of the Instructions for Continued Airworthiness.

Costs of Compliance

This proposed AD would affect about 28 airplanes of U.S. registry. The following table provides the estimated costs for U.S. operators to comply with this AD.

Estimated Costs
Action | Work hour | Average labor rate per hour | Parts | Cost per airplane | Number of U.S.-registered airplanes | Fleet cost
Revise the ALS, required by AD 2006-09-07 | 1 | $80 | None | $80 | 20 | $1,600
Revise the ALS, new proposed action | 1 | 80 | None | 80 | 28 | 2,240

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14577 (71 FR 25919, May 3, 2006) and adding the following new airworthiness directive (AD):

Airbus: Docket No. FAA-2007-27715; Directorate Identifier 2006-NM-140-AD.

Comments Due Date

(a) The FAA must receive comments on this AD action by April 27, 2007.

Affected ADs

(b) This AD supersedes AD 2006-09-07.

Applicability

(c) This AD applies to all Airbus Model A330 and A340 airplanes; certificated in any category.

Note 1: This AD requires revisions to certain operator maintenance documents to include new inspections. Compliance with these inspections is required by 14 CFR 91.403(c). For airplanes that have been previously modified, altered, or repaired in the areas addressed by these inspections, the operator may not be able to accomplish the inspections described in the revisions. In this situation, to comply with 14 CFR 91.403(c), the operator must request approval for an alternative method of compliance according to paragraph (j) of this AD. The request should include a description of changes to the required inspections that will ensure the continued damage tolerance of the affected structure. The FAA has provided guidance for this determination in Advisory Circular (AC) 25-1529-1.

Unsafe Condition

(d) This AD results from the issuance of new and more restrictive service life limits and structural inspections based on fatigue testing and in-service findings. We are issuing this AD to detect and correct fatigue cracking, accidental damage, or corrosion in principal structural elements, which could result in reduced structural integrity of the airplane.

Compliance

(e) You are responsible for having the actions required by this AD performed within the compliance times specified, unless the actions have already been done.

Restatement of Requirements of AD 2006-09-07

Airworthiness Limitations Revision

(f) Within 3 months after June 7, 2006 (the effective date of AD 2006-09-07): Revise the Airworthiness Limitations Section (ALS) of the Instructions for Continued Airworthiness by incorporating into the ALS the documents in paragraphs (f)(1) and (f)(2) of this AD, as applicable.

(1) Airbus Document AI/SE-M4/95A.0089/97, “A330 Airworthiness Limitations Items,” Issue 12, dated November 1, 2003, as specified in Section 9-2 of the Airbus A330 Maintenance Planning Document (MPD).

(2) Section 9-1, “Life limits/Monitored parts,” Revision 05, dated April 7, 2005, of the Airbus A330 and A340 MPDs.

(g) Except as provided by paragraph (h) or (j) of this AD: After the actions in paragraph (f) of this AD have been accomplished, no alternative inspections or inspection intervals may be approved for the structural elements specified in the documents listed in paragraph (f) of this AD.

New Requirements of This AD

ALS Revision

(h) Within 3 months after the effective date of this AD: Revise the ALS of the Instructions for Continued Airworthiness to incorporate the documents specified in paragraphs (h)(1) and (h)(2) of this AD, as applicable. Accomplishing the revision in this paragraph terminates the requirements in paragraph (f) of this AD.

(1) Airbus Document AI/SE-M4/95A.0089/97, “A330 Airworthiness Limitation Items (ALI),” Issue 14, dated October 10, 2005; or Airbus Document AI/SE-M4/95A.0051/97, “A340 Airworthiness Limitations Items,” Issue 9, dated January 17, 2006.

(2) Sub-part 1-2 “Life Limits,” and Sub-part 1-3 “Demonstrated Fatigue Lives,” of Airbus A330 or A340 ALS Part 1, “Safe Life Airworthiness Limitation Items,” dated March 23, 2006, as applicable.

(i) Except as provided by paragraph (j) of this AD: After the actions in paragraph (h) of this AD have been accomplished, no alternative inspections or inspection intervals may be approved for the structural elements specified in the documents listed in paragraph (f) of this AD.

Alternative Methods of Compliance (AMOCs)

(j)(1) The Manager, International Branch, ANM-116, Transport Airplane Directorate, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

Related Information

(k) European Aviation Safety Agency airworthiness directives 2006-0129 and 2006-0130, both dated May 22, 2006; and 2006-0307 and 2006-0308, both dated October 10, 2006; also address the subject of this AD.

Issued in Renton, Washington, on March 21, 2007.
Ali Bahrami,
Manager, Transport Airplane Directorate, Aircraft Certification Service.

[FR Doc. E7-5656 Filed 3-27-07; 8:45 am]

BILLING CODE 4910-13-P